ENVIRONMENTAL PROTECTION AGENCY

[EPA-HQ-OW-2019-0174; FRL 9999-82-OW]

Draft National Water Reuse Action Plan

AGENCY: Environmental Protection Agency (EPA).

ACTION: Notice of availability; request for comments.

SUMMARY: The Environmental Protection Agency (EPA) is requesting public comment on a draft National Water Reuse Action Plan. This draft Action Plan seeks to foster greater consideration of water reuse across the water sector, such as agriculture, industry, potable water and more. Safe and reliable water supplies for human consumption, agriculture, business, industry, recreation, and healthy ecosystems are critical to our Nation's communities and economy. The draft Action Plan describes how agriculture, industry, and communities have demonstrated the value of reusing water, largely in response to various forms of water crises such as drought or source water contamination. Water reuse can improve the security, sustainability, and resilience of our Nation's water resources, especially when considered at the watershed or basin scale, through integrated and collaborative water resource planning.

To accelerate the consideration of water reuse approaches and build on existing science, research, policy, technology, and both national and international experiences, the EPA has facilitated development of this draft National Water Reuse Action Plan across the water sector and with federal, state, and tribal partners. The draft Action Plan is intended to seek commitments and drive action across the various stakeholder groups and the Nation. The plan consists of 46 proposed actions that support consideration and implementation of water reuse applications across ten strategic objectives.

This action is part of a larger effort by the Administration to better coordinate and focus taxpayer resources on some of the Nation's most challenging water resource concerns, including ensuring water availability and mitigating the risks posed by droughts.

DATES: Comments must be received on or before December 16, 2019.

ADDRESSES: Submit your comments, identified by Docket ID No. EPA-HQ-OW-0174 to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commentingepa-dockets.

FOR FURTHER INFORMATION CONTACT: John Ravenscroft, Office of Science and Technology, Office of Water (Mail Code 3207A), Environmental Protection Agency, 1200 Pennsylvania Avenue NW, Washington, DC 20460; telephone number: (202) 566-1101; email address: ravenscroft.john@epa.gov.

SUPPLEMENTARY INFORMATION:

I. General Information

How can I get copies of this document and other related information?

1. Docket. The EPA has established a docket for this action under Docket ID No. EPA-HQ-OW-0174. Publicly available docket materials are available electronically through www.regulations.gov, posted online on the EPA's water reuse website (www.epa.gov/waterreuse/water-reuse-action-plan) or in hard copy at the Water Docket in the EPA Docket Center, (EPA/DC) EPA West, Room 3334, 1301 Constitution Avenue NW, Washington, DC. The EPA Docket Center Public Reading Room is open from 8:30 a.m. to 4:30 p.m., Monday through Friday, excluding legal holidays. The telephone number for the Public Reading Room is (202) 566-1744, and the telephone number for the Water Docket is (202) 566-2426.

2. Electronic Access. You may access this Federal Register document electronically from the Government Printing Office under the “Federal Register” listings FDsys (http://www.gpo.gov/fdsys/browse/collection.action?collectionCode=FR).

II. Why develop a water reuse action plan?

Clean, safe, and reliable water supplies for human consumption, agriculture, business, recreation, and healthy ecosystems are critical to our Nation's communities and economy. Due to various pressures, it is reported that 40 states anticipate some freshwater shortages in the next decade. Communities, agriculture, and businesses are looking to diversify their water supply portfolios to meet current and future needs. Water reuse (also known as recycled or reclaimed water) represents a major opportunity to supplement existing water supplies from potential sources for reuse from industrial process water, agricultural return flows, municipal wastewater, oil and gas produced water, and stormwater, when these potential sources are appropriately and effectively treated to meet “fit for purpose specifications” including appropriate public health and environmental needs.

The goal of the draft Action Plan is to better coordinate and focus taxpayer resources on some of the Nation's most challenging water resource concerns, including ensuring water availability and mitigating the risks posed by droughts. The draft Action Plan contains key actions identified by stakeholders across the water reuse sector that can help improve water security, sustainability, and resilience.

III. Summary of Water Reuse Action Plan Contents

The draft National Water Reuse Action Plan is approximately 45 pages in length and is supported by extensive information in nine Appendices. Section 1 of the draft Action Plan frames the business case for water reuse including: Key definitions; summary of the key drivers, opportunities, and challenges for water reuse; the potential sources and applications for water reuse; and guiding principles and the methodology for development of the draft Action Plan.

Section 2 of the draft Action Plan identifies 46 proposed actions across the following ten strategic objectives:

1. Enable consideration of water reuse with integrated and collaborative action at the watershed scale.

2. Coordinate and integrate federal, state, tribal, and local water reuse programs and policies.

3. Compile and refine fit-for-purpose specifications.

4. Promote technology development, deployment, and validation.

5. Improve availability of water information.

6. Facilitate financial support of water reuse.

7. Integrate and coordinate research on water reuse.

8. Improve outreach and communication on water reuse.

9. Support a talented and dynamic workforce.

10. Develop water reuse metrics that support goals and measure progress.

As explained in the methodology, these proposed actions were identified from the following sources:

1. Analysis and summary of the water reuse literature (greater than 150 sources).

2. Outreach and dialogue with an estimated 2,300 participants.

3. Public input submitted to the first public docket on the plan (opened from April 18, 2019 until July 1, 2019).

4. WateReuse Association expert convening report (conducted in Spring 2019).

5. Review of international experiences with water reuse.

6. Review of water reuse case studies from relevant applications throughout the United States.

Section 3 of the draft Action Plan describes the process for going forward to identify the highest priority actions and seeks leaders and collaborators to describe and commit to specific actions.

IV. Solicitation of Public Comments

The draft plan and the associated appendices can be found at: www.epa.gov/waterreuse/water-reuse-action-plan. The EPA is soliciting public comments to inform revisions to proposed actions, as well as to identify their implementation steps and milestones and the collaborators who may carry out those actions. In addition to providing general input, commenters are encouraged to:

• Identify the most important actions they feel should be taken in the near term.

• Identify and describe the specific attributes and characteristics of the actions that will achieve success.

• Identify critical implementation steps and milestones necessary to successfully implement the proposed actions.

• Commit to lead or collaborate with others on implementing any of the proposed actions.

• Provide additional information or recommendations to inform these or other proposed actions.

The goal is to issue a final Action Plan that includes clear commitments and milestones for actions that will further water reuse to help ensure the sustainability, security, and resilience of the Nation's water resources.

Dated: September 6, 2019.
David P. Ross,
Assistant Administrator, Office of Water.

[FR Doc. 2019-19984 Filed 9-13-19; 8:45 am]

BILLING CODE 6560-50-P